FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Certified Packaging & Transport, Inc. (OFF), 10305 Guliford Road, Jessup, MD 20794, Officer: Mark Feinberg, President (QI), Application Type: New OFF License.

Concepts In Freight, Inc. (NVO & OFF), 10813 NW. 30th Street, Suite 115, Doral, FL 33172, Officers: Asma Aftimos, President (QI), Fadi Aftimos, Vice President, Application Type: QI Change.

DRV Cargo Express Inc. (NVO) 5563 NW 72nd Avenue, Miami, FL 33166, Officer: Dante R. Viggiano, President (QI), Application Type: New NVO License.

Dax Cargo Inc (OFF), 8514 NW 66th Street, Miami, FL 33166, Officers: Winston R. Lopez, Secretary (QI), Carlos E. Chalbaud, President, Application Type: New OFF License.

Forwarding Services International, Inc. dba Triangle Shipping Lines (NVO & OFF), 900 Center Park Drive, Suite F, Charlotte, NC 28217, Officers: Paul L. Carter, Vice President (QI), James D. McClaskey, President, Application Type: Name Change to Midrex Global Logistics, Inc. dba Triangle Shipping Lines.

Green World Export, Inc. (OFF), 17800 Castleton Street, Suite 255, City of Industry, CA 91748, Officer: Danyang Zhao, CEO (QI), Application Type: New OFF License.

Intell SCM LLC dba iContainers (NVO), 5150 Pacific Coast Highway, Suite 460, Long Beach, CA 90804, Officer: Andrew P. Scott, Manager (QI), Application Type: Remove Trade Name iContainers and Add Trade Names AWA Lines and Island Cargo Support.

Jolly Forwarding USA, Inc. dba Jollibox Cargo dba Pinoy Express Cargo dba Chips R'Us (NVO), 470 Cloverleaf Drive, Suites A&B, Baldwin Park, CA 91706, Officers: Urdelia C. Linayao, Secretary (QI), Maria Lourdes A. Timbol, President, Application Type: New NVO License.

Kaizen Logistics Corp (NVO & OFF), 1925 NW. 108th Avenue, Miami, FL 33172, Officers: Claudia Pabon, Vice President (QI), Juan P. Cadena, President, Application Type: New NVO & OFF License.

MIA Trans Corp. (NVO & OFF), 8174 SW. 118th Place, Miami, FL 33183, Officers: Donald H. Pertuz, President (QI), Marilena Pertuz, Secretary, Application Type: License Transfer to MIA Logistics Solutions, Inc.

Midnite Air Corp. dba Midnite Express dba MNX (OFF), 300 N. Oak Street, Los Angeles, CA 90302, Officers: Thomas A. Belmont, COO (QI), Christine Storey, Board Member, Application Type: QI Change.

O.K. Cargo Corp. (OFF), 1720 NW. 94th Avenue, Miami, FL 33172, Officers: Jorge L. Garcia, President (QI), Nora V. Garcia, Vice President, Application Type: New OFF License.

Oncarriage LLC (NVO & OFF), 214 Windgate Court, Peachtree City, GA 30269, Officer: Joshua Wolf, Member/Manager (QI), Application Type: New NVO & OFF License.

Pegasus Logistics Group, Inc. (NVO & OFF), 615 Freeport Pkwy, Suite 100, Coppell, TX 75019, Officer: Kenneth C. Beam, President (QI), Application Type: Add NVO Service.

Reliable Shipping Agency, LLC (NVO), 7710 Brooklyn Boulevard North, Suite 211, Brooklyn Park, MN 55443, Officers: Wells Wescott, Manager (QI), Christian K. Kolleh, Chief Executive Manager, Application Type: New NVO License.

Santa Fe Group Americas, Inc. (NVO & OFF), 1001 S. Dairy Ashford Street, Suite 100, Houston, TX 77077, Officers: Francesca A. Vollaro, Vice President (QI), Lars L. Iversen, President, Application Type: New NVO & OFF License.

SH Transport, Inc. (NVO), 1975 Charles Willard Street, Rancho Dominguez, CA 90220, Officer: Steven Park, President (QI), Application Type: New NVO License.

Transport Partner (USA), Inc. (NVO & OFF), 2006 Cherry Hill Lane, Charleston, SC 29405, Officers: Adam Adaway, Secretary (QI), Wim Spinhoven, President, Application Type: Add NVO Service.

Transports P. Fatton Inc. dba Fatton USA (NVO), 145 Hook Creek Blvd., Bldg. A5, Valley Stream, NY 11581, Officers: Renaud Mellier, Treasurer (QI), Henri Ducasse, CEO, Application Type: QI Change.

Dated: November 16, 2012.
By the Commission.
Karen V. Gregory,
Secretary.

[FR Doc. 2012-28475 Filed 11-21-12; 8:45 am]

BILLING CODE 6730-01-P